DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held on May 5-6, 2004, at the Marines' Memorial Club and Hotel, 609 Sutter Street, San Francisco, CA. The meeting will be held in the Regimental Room, beginning at 8 a.m. and concluding at 5 p.m. on both days. The meeting is open to the public.

The purpose of the Committee is to advise the Secretary of Veterans Affairs on the administration of national cemeteries, soldiers' lots and plots, the selection of new national cemetery sites, the erection of appropriate memorials, and the adequacy of Federal burial benefits. The Committee will make recommendations to the Secretary regarding these activities.

On May 5, the Committee will receive updates on the previous meeting's recommendations, field operations and current National Cemetery Administration issues and information relating to San Francisco and Golden Gate National Cemeteries. In the afternoon, the Committee will travel to the San Francisco and Golden Gate National Cemeteries. On the morning of May 6, the Committee will travel to Memorial Service Network (MSN) Region Five for briefs by MSN personnel. In the afternoon, the Committee will reconvene for the business session and conclude with discussions of any unfinished business and recommendations for future programs, meeting sites, and agenda topics.

Time will not be allocated for receiving oral presentations from the public. Any member of the public wishing to attend the meeting is requested to contact Mr. Timothy Boulay, Designated Federal Officer, at (202) 273-5204. The Committee will accept written comments. Comments can be transmitted electronically to the Committee at Timothy.Boulay@mail.va.gov or mailed to National Cemetery Administration (40), 810 Vermont Avenue, NW., Washington, DC 20420. In the public's communications with the Committee, the writers must identify themselves and state the organizations, associations, or persons they represent.

Dated: April 2, 2004.
By Direction of the Secretary.
E. Philip Riggin,
Committee Managaement Officer.

[FR Doc. 04-8656 Filed 4-15-04; 8:45 am]

BILLING CODE 8320-01-M